DEPARTMENT OF ENERGY

Federal Energy Regulatory Commission

Combined Notice of Filings

Take notice that the Commission has received the following Natural Gas Pipeline Rate and Refund Report filings:

Filings Instituting Proceedings

Docket Numbers: PR24-53-000.

Applicants: Enable Oklahoma Intrastate Transmission, LLC.

Description: § 284.123(g) Rate Filing: EOIT Revised Fuel Percentages 2-28-24 to be effective 4/1/2024.

Filed Date: 2/28/24.

Accession Number: 20240228-5224.

Comment Date: 5 p.m. ET 3/20/24.

§ 284.123(g) Protest: 5 p.m. ET 4/29/24.

Docket Numbers: PR24-54-000.

Applicants: Bay Gas Storage Company, LLC.

Description: § 284.123 Rate Filing: Bay Gas Storage Annual Adjustment to Company Use Percentage Filing to be effective 3/1/2024.

Filed Date: 2/29/24.

Accession Number: 20240229-5050.

Comment Date: 5 p.m. ET 3/21/24.

Docket Numbers: PR24-55-000.

Applicants: Atmos Energy Corporation.

Description: § 284.123(g) Rate Filing: Baseline Filing of Statement of Operating Conditions to be effective 2/29/2024.

Filed Date: 2/29/24.

Accession Number: 20240229-5066.

Comment Date: 5 p.m. ET 3/21/24.

§ 284.123(g) Protest: 5 p.m. ET 4/29/24.

Docket Numbers: RP24-432-000.

Applicants: RH energytrans, LLC.

Description: Request for Waiver of Requirement to File FL&U Percentage Adjustment of RH energytrans, LLC.

Filed Date: 2/27/24.

Accession Number: 20240227-5231.

Comment Date: 5 p.m. ET 3/11/24.

Docket Numbers: RP24-440-000.

Applicants: Algonquin Gas Transmission, LLC.

Description: § 4(d) Rate Filing: Negotiated Rates—Various Releases eff 3-1-24 to be effective 3/1/2024.

Filed Date: 2/28/24.

Accession Number: 20240228-5237.

Comment Date: 5 p.m. ET 3/11/24.

Docket Numbers: RP24-441-000.

Applicants: Adelphia Gateway, LLC.

Description: Compliance filing: Adelphia Gateway Refund Report Filing to be effective N/A.

Filed Date: 2/28/24.

Accession Number: 20240228-5242.

Comment Date: 5 p.m. ET 3/11/24.

Docket Numbers: RP24-442-000.

Applicants: Equitrans, L.P.

Description: § 4(d) Rate Filing: 3-1-2024 Formula Based Negotiated Rates to be effective 3/1/2024.

Filed Date: 2/29/24.

Accession Number: 20240229-5010.

Comment Date: 5 p.m. ET 3/12/24.

Docket Numbers: RP24-443-000.

Applicants: Equitrans, L.P.

Description: § 4(d) Rate Filing: Amended Negotiated Rate Agreement—3/1/2024 to be effective 3/1/2024.

Filed Date: 2/29/24.

Accession Number: 20240229-5011.

Comment Date: 5 p.m. ET 3/12/24.

Docket Numbers: RP24-444-000.

Applicants: Equitrans, L.P.

Description: § 4(d) Rate Filing: AVC Storage Loss Retainage Factor Update—2024 to be effective 4/1/2024.

Filed Date: 2/29/24.

Accession Number: 20240229-5012.

Comment Date: 5 p.m. ET 3/12/24.

Docket Numbers: RP24-445-000.

Applicants: Texas Eastern Transmission, LP.

Description: § 4(d) Rate Filing: Negotiated Rates—Chevron to Colonial Energy eff 3-1-24 to be effective 3/1/2024.

Filed Date: 2/29/24.

Accession Number: 20240229-5038.

Comment Date: 5 p.m. ET 3/12/24.

Docket Numbers: RP24-446-000.

Applicants: Columbia Gas Transmission, LLC.

Description: § 4(d) Rate Filing: CCRM 2024 to be effective 4/1/2024.

Filed Date: 2/29/24.

Accession Number: 20240229-5053.

Comment Date: 5 p.m. ET 3/12/24.

Docket Numbers: RP24-447-000.

Applicants: MarkWest Pioneer, L.L.C.

Description: § 4(d) Rate Filing: Quarterly Fuel Adjustment Filing—Clone to be effective 4/1/2024.

Filed Date: 2/29/24.

Accession Number: 20240229-5060.

Comment Date: 5 p.m. ET 3/12/24.

Docket Numbers: RP24-448-000.

Applicants: KPC Pipeline, LLC.

Description: § 4(d) Rate Filing: Fuel Reimbursement Adjustment to be effective 4/1/2024.

Filed Date: 2/29/24.

Accession Number: 20240229-5073.

Comment Date: 5 p.m. ET 3/12/24.

Docket Numbers: RP24-449-000.

Applicants: Alliance Pipeline L.P.

Description: § 4(d) Rate Filing: Negotiated Rates—Various Mar 1 2024 Releases to be effective 3/1/2024.

Filed Date: 2/29/24.

Accession Number: 20240229-5100.

Comment Date: 5 p.m. ET 3/12/24.

Docket Numbers: RP24-450-000.

Applicants: Sabine Pipe Line LLC.

Description: § 4(d) Rate Filing: Section 5 24.0.0 Transportation Rates 2024 Updated to be effective 4/1/2024.

Filed Date: 2/29/24.

Accession Number: 20240229-5104.

Comment Date: 5 p.m. ET 3/12/24.

Docket Numbers: RP24-451-000.

Applicants: Eastern Gas Transmission and Storage, Inc.

Description: § 4(d) Rate Filing: EGTS—February 29, 2024 Negotiated Rates and Nonconforming Service Agreements to be effective 4/1/2024.

Filed Date: 2/29/24.

Accession Number: 20240229-5115.

Comment Date: 5 p.m. ET 3/12/24.

Docket Numbers: RP24-452-000.

Applicants: TransColorado Gas Transmission Company LLC.

Description: § 4(d) Rate Filing: TC Quarterly FL&U Update Feb. 2024 to be effective 4/1/2024.

Filed Date: 2/29/24.

Accession Number: 20240229-5116.

Comment Date: 5 p.m. ET 3/12/24.

Docket Numbers: RP24-453-000.

Applicants: Tennessee Gas Pipeline Company, L.L.C.

Description: § 4(d) Rate Filing: 2024 Annual Fuel Adjustment Filing to be effective 4/1/2024.

Filed Date: 2/29/24.

Accession Number: 20240229-5117.

Comment Date: 5 p.m. ET 3/12/24.

Docket Numbers: RP24-454-000.

Applicants: Kern River Gas Transmission Company.

Description: § 4(d) Rate Filing: 2024 Daggett Surcharge Filing to be effective 4/1/2024.

Filed Date: 2/29/24.

Accession Number: 20240229-5123.

Comment Date: 5 p.m. ET 3/12/24.

Docket Numbers: RP24-455-000.

Applicants: El Paso Natural Gas Company, L.L.C.

Description: § 4(d) Rate Filing: Negotiated Rate Agreement Update (TMV Mar 2024) to be effective 3/1/2024.

Filed Date: 2/29/24.

Accession Number: 20240229-5128.

Comment Date: 5 p.m. ET 3/12/24.

Docket Numbers: RP24-456-000.

Applicants: Rockies Express Pipeline LLC.

Description: Compliance filing: REX 2024-02-29 Fuel and L&U Reimbursement Percentages and Power Cost Charges to be effective N/A.

Filed Date: 2/29/24.

Accession Number: 20240229-5130.

Comment Date: 5 p.m. ET 3/12/24.

Docket Numbers: RP24-457-000.

Applicants: Tallgrass Interstate Gas Transmission, LLC.

Description: § 4(d) Rate Filing: TIGT 2024-02-29 Fuel and L&U Reimbursement and Power Cost Tracker to be effective 4/1/2024.

Filed Date: 2/29/24.

Accession Number: 20240229-5133.

Comment Date: 5 p.m. ET 3/12/24.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

Filings in Existing Proceedings

Docket Numbers: RP23-241-005.

Applicants: Sea Robin Pipeline Company, LLC.

Description: Compliance filing: Settlement Compliance Filing Docket Nos. RP23-241-000 and RP23-910-000 to be effective 4/1/2024.

Filed Date: 2/29/24.

Accession Number: 20240229-5058.

Comment Date: 5 p.m. ET 3/12/24.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: February 29, 2024.
Debbie-Anne A. Reese,
Acting Secretary.

[FR Doc. 2024-04801 Filed 3-6-24; 8:45 am]

BILLING CODE 6717-01-P